DEPARTMENT OF THE INTERIOR

Bureau of Land Management

[CA-610-01-1220-AA]

Notice of Public Meeting, California Desert District Advisory Council

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) California Desert District Advisory Council (DAC) will meet at the following dates and locations.

September 13-14, 2002: On Friday, September 13, the Council and members of the public will assemble at the parking lot of the Baker Community Center at 7:15 a.m. and depart 7:30 a.m. for a field tour of BLM-administered public lands The community center is located at 56725 Park Ave in Baker. The Council will meet in formal session on Saturday, September 14 from 8 a.m to 5 p.m. at the Baker Community Center, Baker, California. Scheduled agenda topics will include the following:

Public comment for items on the agenda and other issues

Council members and BLM District and field office manager activity reports

Discussions on proposed Congressional wilderness bills

BLM reports on wilderness values

Update on BLM wilderness management

Economic report from Imperial County

December 13-14, 2002: On Friday, December 13, the Council and members of the public will assemble for a field tour at the Best Western China Lake Inn parking lot at 7:15 a.m. and depart at 7:30 a.m. for a field tour of BLM-administered public lands. The Inn is located at the Best Western China Lake Inn, located at 400 South China Lake Boulevard, in Ridgecrest. The Council will meet in formal session on Saturday, December 14 from 8 a.m to 5 p.m. in the Burroughs High School Fine Arts Theater located at 500 French Avenue, in Ridgecrest, California. Agenda items will discussions on the following topics:

Public comment for items on the agenda and other issues

Council members and BLM managers reports

Update on the West Mojave Plan Draft Habitat Conservation Plan

Routes of travel network

Economic reports from Kern and San Bernardino Counties

FOR FURTHER INFORMATION CONTACT: Doran Sanchez, BLM California Desert District Public Affairs Specialist, (909) 697-5220.

SUPPLEMENTARY INFORMATION: The public is welcome to participate in the field tours, but should plan on providing their own transportation, drinks, and lunch.

All Desert District Advisory Council meetings are open to the public. Time for public comment may be made available by the Council Chairman during the presentation of various agenda items, and is also scheduled at the beginning of the meeting. Time for individual oral comments may be limited depending on the number of people who register to comment and time available. Individuals who plan to attend and need special assistance, such as sign language interpretation or other reasonable accommodations should contact the BLM as provided below

Written comments may be filed in advance of the meeting for the California Desert District Advisory Council, c/o Bureau of Land Management, Public Affairs Office, 6221 Box Springs Boulevard, Riverside, California 92507-0714. Written comments also are accepted at the time of the meeting and, if copies are provided to the recorder, will be incorporated into the minutes.

Dated: July 8, 2002.
Linda Hansen,
Acting District Manager, California Desert District.

[FR Doc. 02-19052 Filed 7-26-02; 8:45 am]

BILLING CODE 4310-40-P